DEPARTMENT OF ENERGY

Federal Energy Regulatory Commission

[Docket No. ER01-1527-004, et al.]

Sierra Pacific Power Company, et al.; Electric Rate and Corporate Filings

November 2, 2004.

The following filings have been made with the Commission. The filings are listed in ascending order within each docket classification.

1. Sierra Pacific Power Company; Nevada Power Company

[Docket Nos. ER01-1527-004, ER01-1529-004]

Take notice that, on October 28, 2004, Sierra Pacific Power Company and Nevada Power Company (together, Sierra) submitted an updated market power analysis and revised tariff sheets incorporating the Commission's new Market Behavior Rules adopted in the Commission's Order Amending Market-Based Rate Tariffs and Authorizations issued on November 17, 2003 in Docket No. EL01-118-000, 107 FERC ¶ 61,018 (2004).

Sierra states that copies of the filing were served on parties on the official service list in the above-captioned proceeding.

Comment Date: 5 p.m. Eastern Time on November 18, 2004.

2. Pacific Gas and Electric Company

[Docket Nos. ER04-688-001, ER04-689-000, ER04-690-001, ER04-693-001]

On October 15, 2004, Pacific Gas and Electric Company (PG&E), the Western Area Power Administration (Western), and the California Independent System Operator Corporation (CAISO) filed an Offer of Settlement in the above-referenced proceedings. On October 22, 2004, PG&E submitted the following agreements to complete the Offer of Settlement:

Docket No. ER04-688-001: PG&E Rate Schedule FERC No. 231, Original Sheet Nos. 1 to 50, CAISO Rate Schedule No. 51, Original Sheet Nos. 1 to 50.

Docket No. ER04-689-001: PG&E First Revised Rate Schedule FERC No. 77, First Revised Sheet Nos. 115 to 141.

Docket No. ER04-690-001: Substitute Service Agreement No. 59 under PG&E Electric Tariff, Sixth Revised Volume No. 5, Original Sheet Nos. 1 to 107, Substitute PG&E Rate Schedule FERC No. 228, Original Sheet Nos. 1 to 79, Substitute Service Agreement No. 17 under PG&E Electric Tariff, First Revised Volume No. 4, Service Agreement No. 63 under PG&E Electric Tariff, Sixth Revised Volume No. 5.

Docket No. ER04-693-001: (As corrected by October 27, 2004 filing) Substitute Original Sheet Nos. 1, 11, 60 and 61 to Substitute PG&E Rate Schedule FERC No. 229, Substitute Original Sheet Nos. 18-21 and 48 to CAISO Rate Schedule FERC No. 50.

Comment Date: 5 p.m. Eastern Time on November 12, 2004.

3. PJM Interconnection, L.L.C.

[Docket Nos. ER04-1068-003, R04-1074-002]

Take notice that on October 28, 2004, PJM Interconnection, L.L.C. (PJM), the American Electric Power Service Corporation, on behalf of Appalachian Power Company, Columbus Southern Power Company, Indiana Michigan Power Company, Kentucky Power Company, Kingsport Power Company, Ohio Power Company, and Wheeling Power Company (AEP), and The Dayton Power and Light Company (Dayton) submitted a filing in compliance with the Commission's September 28, 2004 Order, PJM Interconnection, L.L.C., 108 FERC ¶ 61,318 (2004). PJM requests an effective date of October 1, 2004.

PJM states that copies of the filing were served on all PJM members, the utility regulatory commissions in the PJM region, and all persons on the service lists for these proceedings.

Comment Date: 5 p.m. Eastern Time on November 18, 2004.

4. American Electric Power Service Corporation

[Docket No. ER04-1141-001]

Take notice that on October 28, 2004, American Electric Power Service Corporation (AEPSC), on behalf of Ohio Power Company (Ohio Power) submitted changes to tariff Sheet No. 69 in compliance with the Commission's letter order issued October 15, 2004 in Docket No. ER04-1141-000.

Comment Date: 5 p.m. Eastern Time on November 18, 2004.

5. Pacific Gas and Electric Company

[Docket No. ER05-82-000]

Take notice that on October 28, 2004, Pacific Gas and Electric Company (PG&E) submitted its Transmission Owner Tariff for the Transmission Revenue Balancing Account Adjustment rate and the Reliability Services rates. PG&E requests an effective date of January 1, 2005.

PG&E states that copies of the filing were served upon the California Independent System Operator (ISO), Scheduling Coordinators registered with the ISO, Southern California Edison Company, San Diego Gas and Electric Company, and California Public Utilities Commission, and The Western Area Power Administration.

Comment Date: 5 p.m. Eastern Time on November 18, 2004.

6. Pacific Gas and Electric Company

[Docket No. ER05-84-000]

Take notice that on October 28, 2004, Pacific Gas and Electric Company (PG&E) tendered for filing a Letter of Agreement (LOA) between PG&E and Alameda Power and Telecom (Alameda) (collectively, Parties).

PG&E states that copies of this filing were served upon Alameda, the California Independent System Operator, and the California Public Utilities Commission.

Comment Date: 5 p.m. Eastern Time on November 18, 2004.

7. PJM Interconnection, L.L.C.

[Docket No. ER05-85-000]

Take notice that on October 28, 2004, PJM Interconnection, L.L.C. (PJM) and Duquesne Light Company (Duquesne Light) submitted conforming tariff revisions associated with the integration of Duquesne Light into the PJM markets and tariff on January 1, 2005.

PJM states that copies of the filing were served upon all members of PJM, all transmission customers of Duquesne Light, and the affected state utility commissions.

Comment Date: 5 p.m. Eastern Time on November 18, 2004.

8. PJM Interconnection, L.L.C.

[Docket No. ER05-86-000]

Take notice that on October 28, 2004, PJM Interconnection, L.L.C. (PJM), submitted for filing an executed agreement of intent among PJM, American Municipal Power-Ohio, Inc. as agent for Ohio Municipal Electric Generation Agency Joint Venture 5, and American Electric Power Service Corporation as agent for Ohio Power Company. PJM requests an effective date of October 4, 2004.

PJM states that copies of this filing were served upon the parties to the agreement and the state regulatory commissions within the PJM region.

Comment Date: 5 p.m. Eastern Time on November 18, 2004.

9. PJM Interconnection, L.L.C. and Virginia Electric and Power Co.

[Docket No. ER05-87-000]

Take notice that on October 28, 2004, PJM Interconnection, L.L.C. (PJM) and Virginia Electric and Power Company (Dominion) submitted revised pages to the PJM Open Access Transmission Tariff and to the Reliability Assurance Agreement among Load Serving Entities in the PJM South Region associated with the integration of Dominion as PJM South into the PJM markets and tariff.

Comment Date: 5 p.m. Eastern Time on November 18, 2004.

10. Upper Peninsula Power Company

[Docket No. ER05-89-000]

Take notice that on October 28, 2004, Upper Peninsula Power Company (UPPCO) tendered for filing a rate schedule designated as Original Rate Schedule FERC No. 53 (Rate Schedule No. 53) between UPPCO and PJM Interconnection LLC (PJM) and a Notice of Cancellation and Order No. 614 compliant cancellation sheet to terminate Rate Schedule No. 53 (collectively, Cancellation Documents). Rate Schedule No. 53 sets forth the dates, quantity and rates at which UPPCO sold energy to PJM on fourteen occasions for the period beginning May 14, 2004 and ending on July 23, 2004. UPPCO also tendered for filing its Tariff for Sales to the Midwest Independent Transmission System Operator, Inc. and PJM Interconnection, L.L.C. (LMP Tariff) for prospective sales into the Midwest Independent Transmission System Operator, Inc. (MISO) and PJM spot markets. UPPCO requests an effective date of May 14, 2004 for Rate Schedule No. 53 and an effective date of July 24, 2004 for the Cancellation Documents. UPPCO further requests an effective date of October 29, 2004 for the LMP Tariff.

UPPOC states that copies of the filing were served upon PJM, MISO and the Michigan Public Service Commission.

Comment Date: 5 p.m. Eastern Time on November 18, 2004.

11. New Millennium Power Partners, LLC

[Docket No. ER05-90-000]

Take notice that on October 28, 2004, New Millennium Power Partners, LLC (New Millennium) submitted a Notice of Cancellation of FERC Electric Tariff, Original Volume No. 1 which was accepted for filing and made effective May 30, 2003. New Millennium requests an effective date of August 16, 2004 for the cancellation.

Comment Date: 5 p.m. Eastern Time on November 18, 2004.

12. Idaho Power Company

[Docket No. ER05-91-000]

Take notice that on October 28, 2004, Idaho Power Company (Idaho Power) submitted a Contract Demand Notice relating to an agreement between Idaho Power and Seattle City Light, FERC Rate Schedule No. 72. Idaho Power requests an effective date of January 1, 2005.

Idaho Power states that copies of the filing were served upon Seattle City Light.

Comment Date: 5 p.m. Eastern Time on November 18, 2004.

13. PJM Interconnection, L.L.C.

[Docket No. ER05-93-000]

Take notice that on October 28, 2004, PJM Interconnection, L.L.C. (PJM), submitted for filing an interim interconnection service agreement among PJM, City of Rochelle, Illinois, and Commonwealth Edison Company. PJM requests an effective date of October 1, 2004.

PJM states that copies of this filing were served upon the parties to the agreement and the state regulatory commissions within the PJM region.

Comment Date: 5 p.m. Eastern Time on November 18, 2004.

14. Virginia Electric and Power Company

[Docket No. ER05-94-000]

Take notice that on October 28, 2004, Virginia Electric and Power Company (Dominion Virginia Power) tendered the pro forma Facilities Agreement for Wholesale Electric Delivery Points under its new FERC Rate Schedule No. 133. Dominion seeks a waiver of the sixty day notice period and request an effective date concurrent with Dominion's integration into PJM.

Dominion Virginia Power states that copies of the filing were served upon all parties on the attachment to its filing.

Comment Date: 5 p.m. Eastern Time on November 18, 2004.

15. Brascan Power St. Lawrence River LLC

[Docket No. ER05-98-000]

Take notice that on October 28, 2004, Brascan Power St. Lawrence River LLC (BPSLR) submitted for filing a notice of succession informing the Commission that, as a result of an immediate upstream change in ownership and a name change, BPSLR has succeeded to Orion Power New York GP II's FERC Electric Rate Schedule No. 1 (Rate Schedule), and has proposed revisions to its market-based rate schedule to reflect the same and to modernize the rate schedule's language so as to give BPSLR all the authorizations available to other similar entities with market-based rate authorization.

Comment Date: 5 p.m. Eastern Time on November 18, 2004.

16. PJM Interconnection, L.L.C.

[Docket Nos. ER05-114-000, ER04-367-004, ER04-1068-004]

Take notice that on October 26, 2004, PJM Interconnection, L.L.C. (PJM) filed revised sheets to the PJM Open Access Transmission Tariff (PJM Tariff) solely to reflect the combined effect of two recent orders of the Commission affecting certain PJM transmission service rates. PJM states that its filing will conform the filed and posted PJM Tariff rates with the rates PJM currently is authorized to charge, as the combined result of recent Commission orders (1) allowing the rates in a proposed settlement to be charged on an interim basis, pending approval of the settlement; and (2) incorporating the rates and revenue requirements of two new PJM transmission owners in the PJM Tariff. PJM requests an effective date of October 1, 2004.

PJM states that copies of the filing were served on all PJM members, the utility regulatory commissions in the PJM region, and all persons on the service lists for Docket Nos. ER04-367 and ER04-1068.

Comment Date: 5 p.m. Eastern Time on November 16, 2004.

17. Carr Street Generating Station, L.P.

[Docket Nos. ER05-118-000, ER98-4095-004]

Take notice that on October 28, 2004, Carr Street Generating Station, L.P. (Carr Street) submitted for filing revisions to its FERC Electric Tariff, First Revised Volume No. 1 (Tariff). Carr Street states that it has amended its Tariff in order to modernize the Tariff's language so as to give Carr Street all the authorizations available to other similar entities with market-based rate authorization. Carr Street requests an effective date of October 29, 2004.

18. Erie Boulevard Hydropower, L.P.

[Docket Nos. ER05-131-000, ER99-1764-005]

Take notice that on October 28, 2004, Erie Boulevard Hydropower, L.P. (Erie) submitted for filing revisions to its FERC Electric Tariff, First Revised Volume No. 1 (Tariff). Erie states that it has amended its Tariff in order to modernize the Tariff's language so as to give Erie all the authorizations available to other similar entities with market-based rate authorization. Erie requests an effective date of October 29, 2004.

Comment Date: 5 p.m. Eastern Time on November 18, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Magalie R. Salas,
Secretary.

[FR Doc. E4-3106 Filed 11-9-04; 8:45 am]

BILLING CODE 6717-01-P